DEPARTMENT OF HEALTH AND HUMAN SERVICES

Centers for Disease Control and Prevention

[60-Day-12-0222]

Proposed Data Collections Submitted for Public Comment and Recommendations

In compliance with the requirement of Section 3506(c) (2)(A) of the Paperwork Reduction Act of 1995 for opportunity for public comment on proposed data collection projects, the Centers for Disease Control and Prevention (CDC) will publish periodic summaries of proposed projects. To request more information on the proposed project or to obtain a copy of data collection plans and instruments, call the CDC Reports Clearance Officer on 404-639-7570 or send comments to Kimberly Lane, CDC Reports Clearance Officer, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Questionnaire Design Research Laboratory (QDRL) 2012-2014, OMB No. 0920-0222 expiration 3/31/2013)-Revision-National Center for Health Statistics (NCHS), Centers for Disease Control and Prevention (CDC).

Background and Brief Description

Section 306 of the Public Health Service (PHS) Act (42 U.S.C. 242k), as amended, authorizes that the Secretary of Health and Human Services (DHHS), acting through NCHS, shall undertake and support (by grant or contract) research, demonstrations, and evaluations respecting new or improved methods for obtaining current data to support statistical and epidemiological activities for the purpose of improving the effectiveness, efficiency, and quality of health services in the United States.

The Questionnaire Design Research Laboratory (QDRL) conducts questionnaire development, pre-testing, and evaluation activities for CDC surveys (such as the NCHS National Health Interview Survey, OMB No. 0920-0214) and other federally sponsored surveys. NCHS is requesting 3 years of OMB Clearance for this generic submission.

The QDRL conducts cognitive interviews, focus groups, usability tests, field tests/pilot interviews, and experimental research in laboratory and field settings, both for applied questionnaire development and evaluation as well as more basic research on response errors in surveys.

QDRL Staff use various techniques to evaluate interviewer administered, self-administered, telephone, Computer Assisted Personal Interviewing (CAPI), Computer Assisted Self-Interviewing (CASI), Audio Computer-Assisted Self-Interviewing (ACASI), and web-based questionnaires.

The most common questionnaire evaluation method is the cognitive interview. The interview structure consists of respondents first answering a draft survey question and then providing textual information to reveal the processes involved in answering the test question. Specifically, cognitive interview respondents are asked to describe how and why they answered the question as they did. Through the interviewing process, various types of question-response problems that would not normally be identified in a traditional survey interview, such as interpretive errors and recall accuracy, are uncovered. By conducting a comparative analysis of cognitive interviews, it is also possible to determine whether particular interpretive patterns occur within particular sub-groups of the population. Interviews are generally conducted in small rounds of 20-30 interviews; ideally, the questionnaire is re-worked between rounds, and revisions are tested iteratively until interviews yield relatively few new insights.

In addition to its traditional QDRL activities, NCHS is requesting approval for a large field test that will be conducted in 2012. This is a 5,000-case test which involves testing the use of ACASI in the full National Health Interview Survey (NHIS). The ACASI content included in the 5,000-case test is consistent with the content studied in two smaller approved tests. The module includes questions on sexual identity, alcohol consumption, HIV testing, mental health, height and weight, sleep, and financial worries. The objective of asking a question on sexual identity in the NHIS is to fill the gaps that exist in the state of knowledge about the general health behaviors, health status, and health care utilization of Lesbian, Gay, Bisexual, and Transgender (LGBT) persons.

The 5,000-case test will include one or more built-in experiments to assess the impact of ACASI, and components of ACASI, on prevalence estimates and data quality. First and foremost, test cases will be randomly assigned to receive the above described questions in either CAPI or ACASI. In particular, prevalence estimates for the sexual identity questions will be compared by mode of administration. Since a documented advantage of ACASI is the enhanced level of privacy it affords, we anticipate higher prevalence estimates of sexual minorities (Lesbian, Gay, Bisexual or Transgender persons) from this mode of administration. Estimates for sensitive items on mental health, alcohol consumption, HIV testing, height and weight, financial worries, and others will also be compared.

Cognitive interviewing is inexpensive and provides useful data on questionnaire performance while minimizing respondent burden. Cognitive interviewing offers a detailed depiction of meanings and processes used by respondents to answer questions—processes that ultimately produce the survey data. As such, the method offers an insight that can transform understanding of question validity and response error. Documented findings from these studies represent tangible evidence of how the question performs. Such documentation also serves CDC data users, allowing them to be critical users in their approach and application of the data.

Similar methodology has been adopted by other federal agencies, as well as by academic and commercial survey organizations. There are no costs to respondents other than their time.

Estimated Burden Table
Projects | Number of respondents | Number of responses per respondent | Average hours per response | Response burden
QDRL Interviews | 9000 | 1 | 1 | 9000
Focus groups | 300 | 1 | 1.5 | 450
Total |  |  |  | 9450

Kimberly Lane,
Reports Clearance Officer, Centers for Disease Control and Prevention.

[FR Doc. 2012-4378 Filed 2-23-12; 8:45 am]

BILLING CODE 4163-18-P